DEPARTMENT OF TRANSPORTATION

Federal Railroad Administration

[Docket Number FRA-2011-0074]

Petition for Waiver of Compliance

In accordance with part 211 of Title 49 Code of Federal Regulations (CFR), this document provides the public notice that by a document dated September 2, 2011, BNSF Railway (BNSF) has petitioned the Federal Railroad Administration (FRA) for a waiver of compliance from certain provisions of the Federal railroad safety regulations contained at 49 CFR part 232. FRA has assigned the petition Docket Number FRA-2011-0074.

BNSF seeks relief from certain provisions of 49 CFR part 232, Brake System Safety Standards for Freight and Other Non-Passenger Trains and Equipment; End-of-Train Devices. Specifically, BNSF is proposing to use Web-based software to satisfy the “hands-on” portion of training required by 49 CFR Section 232.203(e), in connection with periodic refresher training. Refresher training is required at intervals not to exceed 3 years, and shall consist of classroom and hands-on training, as well as testing.

BNSF states it created a Web-based software application that it characterizes as Air Brake System Virtual Training Environment (ABSVTE), which conceptually closely parallels Locomotive Engineer simulator training. ABSVTE places the employee as an avatar in a realistic 3D virtual scenario. The employee must maneuver the avatar in the virtual setting and perform all inspection tasks. The employee communicates on a virtual radio, listens for the proper brake responses, and visually inspects each car in the scenario using a combination of mouse and key strokes. During the simulation, the employee must properly identify any unusual conditions and take corrective action. The software has the ability for the trainer to control the environment and preprogram different scenarios and conditions, covering a variety of air brake systems and associated air brake components an employee might encounter in the field. BNSF asserts that ABSVTE will enhance employee decision-making by testing his or her ability to identify and correct malfunctions that are difficult to demonstrate during operational testing. FRA permits operational testing to satisfy the hands-on portion of periodic refresher training, provided the tests are documented.

BNSF will require 100-percent proficiency to receive virtual hands-on credit. Employees failing to achieve 100-percent proficiency will be allowed to retake the virtual test. If the employee again fails to achieve 100-percent proficiency, he or she will receive remedial training from a supervisor or trainer.

In summary, BNSF respectfully requests that ABSVTE be considered as an additional option to satisfy the “hands-on” portion of periodic refresher training required by 49 CFR 232.203(e). BNSF states that incorporating ABSVTE into their portfolio of traditional training delivery mechanisms will result in an overall increase in the frequency of air brake training and evaluation for BNSF employees.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by December 9, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Dated: Issued in Washington, DC, on October 19, 2011.
Robert C. Lauby,
Deputy Associate Administrator for Regulatory and Legislative Operations.

[FR Doc. 2011-27503 Filed 10-24-11; 8:45 am]

BILLING CODE 4910-06-P